DEPARTMENT OF AGRICULTURE

Forest Service

Snohomish County Resource Advisory Committee (RAC)

AGENCY: Forest Service, USDA.

ACTION: Notice of meetings.

SUMMARY: The Snohomish County Resource Advisory Committee (RAC) will be meeting on Wednesday, March 13, 2002, and Wednesday, March 27, 2002, at the Snohomish County Administration Building, Willis Tucker Conference Room (3rd floor), 3000 Rockefeller Ave. in Everett, WA 98201.

Both meetings will begin at 9 a.m. and continue until about 4 p.m. Agenda items to be covered at both meetings include: (1) Forest Service land allocations, (2) Title II project criteria, and (3) Title II project evaluation.

All Snohomish County Resource Advisory Committee meetings are open to the public. Interested citizens are encouraged to attend

The Snohomish County Resource Advisory Committee advises Snohomish County on projects, reviews project proposals, and makes recommendations to the Forest Supervisor for projects to be funded by Title II dollars. The Snohomish County Resource Advisory Committee was established to carry out the requirements of the Secure Rural Schools and Community Self-Determination Act of 2000.

FOR FURTHER INFORMATION CONTACT: Direct questions regarding this meeting to Barbara Busse, Designated Federal Official, USDA Forest Service, Mt. Baker-Snoqualmie National Forest, 74920 NE. Stevens Pass Hwy, PO Box 305, Skykomish, WA 98288 (phone: 360-677-2414) or Terry Skorheim, District Ranger, USDA Forest Service, Mt. Baker-Snoqualmie National Forest, 1405 Emens St., Darrington, WA 98241 (phone: 360-436-1155).

Dated: February 21, 2002.
Larry Donovan,
Acting Designated Federal Official.

[FR Doc. 02-4583 Filed 2-26-02; 8:45 am]

BILLING CODE 3410-11-M